RECOVERY ACCOUNTABILITY AND TRANSPARENCY BOARD

Agenda and Notice of Partially Closed Meeting of the Recovery Independent Advisory Panel

AGENCY: Recovery Accountability and Transparency Board.

ACTION: Notice of partially closed meeting.

SUMMARY: In accordance with the American Recovery and Reinvestment Act of 2009, Public Law 111-5 (Recovery Act), and the Federal Advisory Committee Act of 1972 (FACA), the Recovery Accountability and Transparency Board's (Board) Recovery Independent Advisory Panel (RIAP) will meet as indicated below. Notice of this meeting is required under Section 10(a)(2) of FACA. This notice is intended to notify the general public of their opportunity to attend the open portion of the meeting.

DATES: The open portion of the RIAP meeting will be held on Monday, November 22, 2010, from 10 a.m. to 3 p.m.

ADDRESSES: The Ritz-Carlton, 2401 East Camelback Road, Phoenix, AZ 85016.

FOR FURTHER INFORMATION CONTACT: Glen Walker, Executive Director, Recovery Independent Advisory Panel, 1717 Pennsylvania Avenue, NW., Suite 700, Washington, DC 20006; Telephone 202-254-7900.

SUPPLEMENTARY INFORMATION: Pursuant to Section 1543 of the Recovery Act, the RIAP is charged with making recommendations to the Board on actions the Board could take to prevent fraud, waste, and abuse of Recovery Act funds. The purpose of the November 22, 2010 meeting is to allow the RIAP to have an open dialogue, with input from the public, on issues relating to fraud, waste, and abuse of Recovery Act funds. More specifically, the RIAP is interested in obtaining input regarding the following matters:

• Actions the Board can take to prevent fraud, waste, and abuse;

• Transparency of entitlements and tax benefits funded by the Recovery Act;

• The public's experience with obtaining information from Recovery.gov and how that experience can be improved; and

• Random sampling as a tool for detecting fraud, waste, and abuse.

In keeping with FACA procedures, members of the public are invited to provide comments to the RIAP. The preference of the RIAP is to have members of the public provide written comments addressing any of the matters listed above no later than November 12, 2010. There will be limited space for this meeting; therefore, members of the public who have submitted written statements addressing matters outlined above will be given priority in attending this meeting and speaking to the RIAP. The next highest priority for attending the meeting and speaking to the RIAP will be those individuals who have signed up in advance by submitting their names via e-mail to the RIAP in advance of the meeting. Members of the public who have submitted written comments and/or who have signed up in advance will be given priority to attend the meeting and be heard first in the order in which their written statements and/or sign-up e-mails were received. Other members of the public will be heard in the order in which they sign up at the beginning of the meeting, space permitting. A time limit will be placed on those members of the public wishing to speak at the meeting, with time allocated in accordance with the number of people who have signed up indicating a desire to speak to the RIAP. The RIAP will make every effort to hear the views of all interested persons. The Chairperson of the RIAP is empowered to conduct the meeting in a fashion that will, to the Chairperson's judgment, facilitate the orderly conduct of business. You may submit written comments by mail to 1717 Pennsylvania Avenue, NW., Suite 700, Washington, DC 20006. “RIAP comments” should be written on the envelope. Persons wishing to e-mail their written comments and/or sign up in advance to speak to the RIAP at the meeting should send their written comments and/or names to panel@ratb.gov and write “November 22, 2010 RIAP public comment” in the Subject line.

There will be a closed meeting, under the authority of Section 10(d) of FACA and under exemption (7) of Section 552b(c) of the Government in the Sunshine Act (Pub. L. 92-463), that will be held prior to the open meeting from 9 a.m. to 9:30 a.m. During the closed portion of the meeting there will be a discussion that would disclose investigative techniques and procedures. A summary of the activities at the closed session and related matters which are informative to the public consistent with the policy of 5 U.S.C. 552b(c) will be available to the public within fourteen days of the meeting. Records will be kept of all RIAP proceedings and will be available for public inspection on http://www.recovery.gov.

Ivan J. Flores,
Paralegal Specialist, Recovery Accountability and Transparency Board.

[FR Doc. 2010-28243 Filed 11-8-10; 8:45 am]

BILLING CODE 6821-15-P